DEPARTMENT OF THE INTERIOR

Bureau of Indian Affairs

[167 A2100DD/AAKC001030/A0A501010.999900]

Renewal of Agency Information Collection for Acquisition of Trust Land

AGENCY: Bureau of Indian Affairs, Interior.

ACTION: Notice; correction.

SUMMARY: The Bureau of Indian Affairs (BIA) published a notice in the Federal Register on August 30, 2016, requesting the Office Management and Budget (OMB) renew the Agency Information Collection for Acquisition of Trust Land, OMB Control Number 1076-0100. The notice contained an incorrect title.

FOR FURTHER INFORMATION CONTACT: Ms. Elizabeth K. Appel, Director, Office of Regulatory Affairs & Collaborative Action, telephone: (202) 273-4680, email: elizabeth.appel@bia.gov.

Correction

In the Federal Register of August 30, 2016, in FR Doc. 2016-20811 on page 59652, in the first column, correct the title of the notice to read:

Renewal of Agency Information Collection for Acquisition of Trust Land

Elizabeth K. Appel,
Director, Office of Regulatory Affairs and Collaborative Action—Indian Affairs.

[FR Doc. 2016-21917 Filed 9-12-16; 8:45 am]

BILLING CODE 4337-15-P